NATIONAL AERONAUTICS AND SPACE ADMINISTRATION

[Notice (08-035)]

Government-Owned Inventions, Available for Licensing

AGENCY: National Aeronautics and Space Administration.

ACTION: Notice of availability of inventions for licensing.

SUMMARY: The inventions listed below are assigned to the National Aeronautics and Space Administration, and are the subjects of patent applications that have been filed in the United States Patent and Trademark Office, and are available for licensing.

DATES: April 29, 2008.

FOR FURTHER INFORMATION CONTACT: Mark W. Homer, Patent Counsel, NASA Management Office—JPL, 4800 Oak Grove Drive, Mail Stop 180-200, Pasadena, CA 91109; telephone (818) 354-7770.

NASA Case No. DRC-007-022: Multicam Network Camera System;

NASA Case No. DRC-008-014: Improved Ram Booster;

NASA Case No. NPO-42466-1: Swept Frequency Laser Metrology System;

NASA Case No. NPO-44914-1: Magnetically Conformed, Variable Area Discharge Chamber for Hall Thruster, and Method;

NASA Case No. NPO-44765-1: Ultrasonic/Sonic Rotary-Hammer Drill;

NASA Case No. NPO-43801-1: Diffractive Optical Element of Optimized Diffractive Order for a Solar Concentrator;

NASA Case No. NPO-43348-1: Precise Delay Measurement Through Combinatorial Logic;

NASA Case No. NPO-43020-1: Carbon Nanotube Composite and Method of Making.

Dated: April 23, 2008.
Keith T. Sefton,
Deputy General Counsel, Administration and Management.

[FR Doc. E8-9365 Filed 4-28-08; 8:45 am]

BILLING CODE 7510-13-P